DEPARTMENT OF THE INTERIOR

Notice of Inventory Completion: UCLA Fowler Museum of Cultural History, University of California, Los Angeles, Los Angeles, CA

AGENCY: National Park Service, Interior.

ACTION: Notice.

Notice is here given in accordance with provisions of the Native American Graves Protection and Repatriation Act (NAGPRA), 25 U.S.C. 3003, of the completion of an inventory of human remains and associated funerary objects in the possession of the UCLA Fowler Museum of Cultural History, University of California, Los Angeles, Los Angeles, CA. The human remains and associated funerary objects were removed from a site in Mono County, CA.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by the UCLA Fowler Museum of Cultural History professional staff in consultation with representatives of the Battle Mountain Band of the Te¯Moak Tribe of Western Shoshone Indians of Nevada; Big Pine Band of Owens Valley Paiute Shoshone Indians of the Big Pine Reservation, California; Bridgeport Paiute Indian Colony of California; Burns Paiute Tribe of the Burns Paiute Indian Colony of Oregon; Cedarville Rancheria, California; Confederated Tribes of the Goshute Reservation, Nevada and Utah; Confederated Tribes of the Warm Springs Reservation of Oregon; Death Valley Timbi¯Sha Shoshone Band of California; Duckwater Shoshone Tribe of the Duckwater Reservation, Nevada; Elko Band of the Te¯Moak Tribe of Western Shoshone Indians of Nevada; Ely Shoshone Tribe of Nevada; Fort Bidwell Indian Community of the Fort Bidwell Reservation of California; Fort Independence Indian Community of Paiute Indians of the Fort Independence Reservation, California; Fort McDermitt Paiute and Shoshone Tribes of the Fort McDermitt Indian Reservation, Nevada and Oregon; Las Vegas Tribe of Paiute Indians of the Las Vegas Indian Colony, Nevada; Lovelock Paiute Tribe of the Lovelock Indian Colony, Nevada; Moapa Band of Paiute Indians of the Moapa River Indian Reservation, Nevada; Paiute Indian Tribe of Utah; Paiute¯Shoshone Indians of the Bishop Community of the Bishop Colony, California; Paiute¯Shoshone Tribe of the Fallon Reservation and Colony, Nevada; Paiute¯Shoshone Indians of the Lone Pine Community of the Lone Pine Reservation, California; Pyramid Lake Paiute Tribe of the Pyramid Lake Reservation, Nevada; Reno¯Sparks Indian Colony, Nevada; Shoshone¯Bannock Tribes of the Fort Hall Reservation of Idaho; Shoshone¯Paiute Tribes of the Duck Valley Reservation, Nevada; Shoshone Tribe of the Wind River Reservation, Wyoming; Skull Valley Band of Goshute Indians of Utah; South Fork Band of the Te¯Moak Tribe of Western Shoshone Indians of Nevada; Summit Lake Paiute Tribe of Nevada; Susanville Indian Rancheria, California; Utu Utu Gwaitu Paiute Tribe of the Benton Paiute Reservation, California; Walker River Paiute Tribe of the Walker River Reservation, Nevada; Washoe Tribe of Nevada and California; Wells Band of the Te¯Moak Tribe of Western Shoshone Indians of Nevada; Winnemucca Indian Colony of Nevada; Yerington Paiute Tribe of the Yerington Colony & Campbell Ranch, Nevada; Yomba Shoshone Tribe of the Yomba Reservation, Nevada; and the Mono Lake Kutzadika Indian Community (a nonfederally recognized Indian group) and Coleville Onadika (Salt Eaters) in Antelope Valley (a nonfederally recognized Indian group).

In 1959, human remains representing one individual were removed from a burial on the Cain Ranch (site CA¯MNO-384), Mono County, CA, by Emma Lou Davis and were accessioned by the University of California, Los Angeles the same year. No known individual was identified. The 75 associated funerary objects are 70 shell beads, 2 bone awl pieces, 1 haliotis pendant, 1 haliotis fragment, and 1 deer phalanx fragment.

The Mono Basin site is located within the traditional territory of the Northern Paiute, Owens Valley Paiute, and Western Shoshone tribes. The artifacts are consistent with others documented as associated with the indigenous inhabitants of the area. The burial dates to the transition between the Middle and Late Archaic periods. According to archaeologists, the Mono Basin area has been used by indigenous groups for as long as 8,000 years. Tribal representatives from the Mono Lake Kutzadika (a nonfederally recognized Indian group) stated that Mono Lake families are related to families who are now members of the Utu Utu Gwaitu Benton Paiute Tribe of the Benton Paiute Reservation, California and the Bridgeport Paiute Indian Colony of California. Joseph Saulque, Chair of the Utu Utu Gwaitu Benton Paiute Tribe, said that he and others consider that the Owens Valley and Northern Paiute are all one related people, and that they are all indigenous to the areas in which they now reside. Elders of the Bridgeport Paiute Indian Colony of California reviewed the archaeological report for the burial and said that they recognized many elements of a traditional Paiute burial and that the burial was not too old to be Paiute.

Officials of the UCLA Fowler Museum of Cultural History have determined that, pursuant to 25 U.S.C. 3001 (9-10), the human remains described above are the physical remains of one individual of Native American ancestry. Officials of the UCLA Fowler Museum of Cultural History have also determined that, pursuant to 25 U.S.C. 3001 (3)(A), the 75 objects described above are reasonably believed to have been placed with or near individual human remains at the time of death or later as part of the death rite or ceremony. Lastly, officials of the UCLA Fowler Museum of Cultural History have determined that, pursuant to 25 U.S.C. 3001 (2), there is a relationship of shared group identity that can be reasonably traced between the Native American human remains and associated funerary objects and the Battle Mountain Band of the Te¯Moak Tribe of Western Shoshone Indians of Nevada; Big Pine Band of Owens Valley Paiute Shoshone Indians of the Big Pine Reservation, California; Bridgeport Paiute Indian Colony of California; Burns Paiute Tribe of the Burns Paiute Indian Colony of Oregon; Cedarville Rancheria, California; Confederated Tribes of the Goshute Reservation, Nevada and Utah; Confederated Tribes of the Warm Springs Reservation of Oregon; Death Valley Timbi¯Sha Shoshone Band of California; Duckwater Shoshone Tribe of the Duckwater Reservation, Nevada; Elko Band of the Te¯Moak Tribe of Western Shoshone Indians of Nevada; Ely Shoshone Tribe of Nevada; Fort Bidwell Indian Community of the Fort Bidwell Reservation of California; Fort Independence Indian Community of Paiute Indians of the Fort Independence Reservation, California; Fort McDermitt Paiute and Shoshone Tribes of the Fort McDermitt Indian Reservation, Nevada and Oregon; Las Vegas Tribe of Paiute Indians of the Las Vegas Indian Colony, Nevada; Lovelock Paiute Tribe of the Lovelock Indian Colony, Nevada; Moapa Band of Paiute Indians of the Moapa River Indian Reservation, Nevada; Paiute Indian Tribe of Utah; Paiute¯Shoshone Indians of the Bishop Community of the Bishop Colony, California; Paiute¯Shoshone Tribe of the Fallon Reservation and Colony, Nevada; Paiute¯Shoshone Indians of the Lone Pine Community of the Lone Pine Reservation, California; Pyramid Lake Paiute Tribe of the Pyramid Lake Reservation, Nevada; Reno¯Sparks Indian Colony, Nevada; Shoshone¯Bannock Tribes of the Fort Hall Reservation of Idaho; Shoshone¯Paiute Tribes of the Duck Valley Reservation, Nevada; Shoshone Tribe of the Wind River Reservation, Wyoming; Skull Valley Band of Goshute Indians of Utah; South Fork Band of the Te¯Moak Tribe of Western Shoshone Indians of Nevada; Summit Lake Paiute Tribe of Nevada; Susanville Indian Rancheria, California; Utu Utu Gwaitu Paiute Tribe of the Benton Paiute Reservation, California; Walker River Paiute Tribe of the Walker River Reservation, Nevada; Washoe Tribe of Nevada and California; Wells Band of the Te¯Moak Tribe of Western Shoshone Indians of Nevada; Winnemucca Indian Colony of Nevada; Yerington Paiute Tribe of the Yerington Colony & Campbell Ranch, Nevada; and Yomba Shoshone Tribe of the Yomba Reservation, Nevada, and there is a cultural relationship between the Native American human remains and associated funerary objects and the Mono Lake Kutzadika Indian Community (a nonfederally recognized Indian group) and the Coleville Onadika (Salt Eaters) in Antelope Valley (a nonfederally recognized Indian group). The University of California, Los Angeles has received a claim from the Utu Utu Gwaitu Paiute Tribe of the Benton Paiute Reservation, Califonia for the human remains and associated funerary objects removed from the Cain Ranch site.

Representatives of any other Indian tribe that believes itself to be culturally affiliated with the human remains and associated funerary objects should contact Diana Wilson, UCLA NAGPRA Coordinator, Office of the Vice Chancellor, Research, University of California, Los Angeles, Box 951405, Los Angeles, CA 90095-1405, telephone (310) 825-1864, before January 19, 2005. Repatriation of the human remains and associated funerary objects to the Utu Utu Gwaitu Paiute Tribe of the Benton Paiute Reservation, California may proceed after that date if no additional claimants come forward.

UCLA Fowler Museum of Cultural History is responsible for notifying the 37 tribes and the 2 nonfederally recognized Indian groups listed above that this notice has been published.

Dated: December 14, 2004.
Sherry Hutt,
Manager, National NAGPRA Program.

[FR Doc. 04-27787 Filed 12-17-04; 8:45 am]

BILLING CODE 4312-50-S